DEPARTMENT OF DEFENSE

Office of the Secretary

[Docket ID: DOD-2024-OS-0152]

Proposed Collection; Comment Request

AGENCY: Office of the Under Secretary of Defense for Personnel and Readiness (OUSD (P&R)), Department of Defense (DoD).

ACTION: 60-day information collection notice.

SUMMARY: In compliance with the Paperwork Reduction Act of 1995, the OUSD P&R, announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including the use of automated collection techniques or other forms of information technology.

DATES: Consideration will be given to all comments received by March 7, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 05F16, Alexandria, VA 22350-1700.

Instructions: All submissions received must include the agency name, docket number and title for this Federal Register document. The general policy for comments and other submissions from members of the public is to make these submissions available for public viewing at http://www.regulations.gov as they are received without change, including any personal identifiers or contact information.

FOR FURTHER INFORMATION CONTACT: To request more information on this proposed information collection or to obtain a copy of the proposal and associated collection instruments, please write to OEPM, Voluntary Education, 4000 Pentagon, Room 3C1063 Washington, DC 20301-4000, Mark Phelan, (571) 372-5355.

SUPPLEMENTARY INFORMATION:

Title; Associated Form; And Omb Number: Department of Defense (DoD) Voluntary Education Partnership Memorandum of Understanding (MOU) Institutional Compliance Program (ICP); OMB Control Number 0704-VEPP.

Needs And Uses: The DoD Voluntary Education Partnership MOU ICP is a full-scale, risk-based compliance program that assesses institutional compliance to reduce risks associated with non-compliance. Each year, the ICP team considers the entire population of MOU signatories, leveraging over 24,000 pieces of data to narrow the population from over 2,700 to 250, and then conducts an in-depth assessment on those 250 institutions. The team then provided critical feedback to those institutions to enable them to implement Corrective Action Plans to improve their individual level of compliance with the tenets of their MOUs.

Affected Public: Educational Institutions.

Annual Burden Hours: 3,000.

Number of Respondents: 250.

Responses per Respondent: 1.

Annual Responses: 250.

Average Burden per Response: 12 hours.

Frequency: On occasion.

The information reviewed is not the same for all the selected educational institutions. The basic information is associated with the review process is as follows:

(a) Recruiting, Marketing, and Advertising

The data examined in Recruiting, Marketing, & Advertising were focused on the content used to attract prospective Service members as students, and whether this content complied with the legal and ethical requirements in the MOU.

(b) Financial Matters

Financial Matters data pertain to the cost of attendance, pre and post-enrollment tools and processes, and the ease with which prospective Service members can access information. MOU compliance requires that Service members have easy access to clear and accurate information regarding financial aid options. This includes access to trained and qualified counseling staff who can provide accurate and up-to-date information regarding the costs of attending an institution, and recommendations regarding individual financial choices.

(c) Accreditation

To be able to sign a DoD MOU, all institutions must be accredited by a national or regional accrediting body recognized by the ED. Also, the institution may only conduct programs from among those offered or authorized by the main administrative and academic office, in accordance with standard procedures for authorization of degree programs by the educational institution. These programs are reviewed to ensure that the educational institution is compliant with the signed DoD MOU.

(d) Post-graduate Opportunities

Information reviewed should include the unchanging degree plans and requirements needed, guidance available for professional opportunities upon completion of the degree program, and processes regarding readmission policies for Service members fulfilling military obligations while attending the institution.

Dated: December 30, 2024.
Stephanie J. Bost,
Alternate OSD Federal Register Liaison Officer, Department of Defense.

[FR Doc. 2024-31666 Filed 1-3-25; 8:45 am]

BILLING CODE 6001-FR-P